ENVIRONMENTAL PROTECTION AGENCY

[ER-FRL-9050-6]

Environmental Impact Statements; Notice of Availability

Responsible Agency: Office of Federal Activities, General Information 202-564-5632 or https://www.epa.gov/nepa.

Weekly receipt of Environmental Impact Statements (EIS)

Filed April 20, 2020, 10 a.m. EST Through April 27, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

Amended Notice:

EIS No. 20200077, Draft, NNSA, SC, Plutonium Pit Production at the Savannah River Site in South Carolina, Comment Period Ends: 06/02/2020, Contact: Jennifer Nelson 803-208-1426. Revision to FR Notice Published 4/3/2020; Extending the Review Period from 5/18/2020 to 6/2/2020.

Dated: April 27, 2020.
Cindy S. Barger,
Director, NEPA Compliance Division, Office of Federal Activities.

[FR Doc. 2020-09275 Filed 4-30-20; 8:45 am]

BILLING CODE 6560-50-P